DEPARTMENT OF TRANSPORTATION

[Docket No. DOT-OST-2003-15623]

Request for Comments of a Previously Approved Information Collection: Procedures and Evidence Rules for Air Carrier Authority Applications

AGENCY: Office of the Secretary, DOT.

ACTION: Notice and request for comments.

SUMMARY: In compliance with the Paperwork Reduction Act of 1995, this notice announces that the Information Collection Request (ICR) abstracted below is being forwarded to the Office of Management and Budget (OMB) for review and comments.

DATES: Comments must be submitted on or before May 17, 2023.

ADDRESSES: Send comments regarding the burden estimate, including suggestions for reducing the burden, to the Office of Management and Budget, Attention: Desk Officer for the Office of the Secretary of Transportation, 725 17th Street NW, Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Barbara Snoden, (202) 366-4834, Office of Aviation Analysis, Office of the Secretary, U.S. Department of Transportation, 1200 New Jersey Avenue SE, Washington, DC 20590.

SUPPLEMENTARY INFORMATION: A Federal Register Notice with a 60-day comment period soliciting comments on the following information collection was published on February 7, 2023 (88 FR 8039). No comments were received.

OMB Control Number: 2106-0023.

Title: Procedures and Evidence Rules for Air Carrier Authority Application: 14 CFR part 201—Air Carrier Authority under Subtitle VII of Title 49 of the United States Code—(Amended); 14 CFR part 291—Cargo Operations in Interstate Air Transportation.

Type of Request: Extension of a previously approved collection.

Abstract: To determine the fitness of persons seeking authority to engage in air transportation, the Department collects information from them about their ownership, citizenship, managerial competence, operating proposal, financial condition, and compliance history. The specific information to be filed by respondents is set forth in 14 CFR parts 201 and 204.

Affected Public: Persons seeking initial or continuing authority to engage in air transportation of persons, property, and/or mail.

Number of Respondents: 69.

Frequency: On occasion.

Number of Responses: 207.

Total Annual Burden: 10,215 hours.

Authority: The Paperwork Reduction Act of 1995; 14 CFR part 215.

Issued in Washington, DC, on April 12, 2023.
Lauralyn Jean Remo Temprosa,
Associate Director, Air Carrier Fitness Division, Office of Aviation Analysis.

[FR Doc. 2023-08022 Filed 4-14-23; 8:45 am]

BILLING CODE 4910-9X-P